DEPARTMENT OF VETERANS AFFAIRS

Advisory Committee on Structural Safety of Department of Veterans Affairs Facilities, Notice of Meeting

The Department of Veterans Affairs (VA), in accordance with Public Law 92-463, gives notice that a meeting of the Advisory Committee on Structural Safety of Department of Veterans Affairs Facilities (Committee) will be held on:

Thursday, May 3, 2001: 10 a.m. to 5 p.m.

Friday, May 4, 2001: 9 a.m. to 12:30 p.m.

The location of the meet will be 811 Vermont Avenue, NW., Washington, DC, in Room 442 on both days.

The purpose of the Committee is to advise the Secretary on matters of structural safety in the construction and remodeling of VA facilities and to recommend standards for use by VA in the construction and alteration of facilities as prescribed under Section 8105 of Title 38, United States Code.

On Thursday, May 3, 2001, the Committee will review the developments in the field of structural design, as they relate to seismic safety of buildings, and fire safety issues. On Friday, May 4, 2001, the Committee will vote on structural and fine safety issues for inclusion in VA's standards.

Both meetings will be open to the public. It will be necessary for those wishing to attend to contact Krishna K. Banga, Senior Structural Engineer, Facilities Quality Service, Office of Facilities Management, Department of Veterans Affairs Central Office, at 202-565-9370, prior to the meeting.

Dated: April 24, 2001.
By Direction of the Secretary.
Ventris C. Gibson,
Committee Management Officer.

[FR Doc. 01-11031 Filed 5-1-01; 8:45 am]

BILLING CODE 8320-01-M